DEPARTMENT OF TRANSPORTATION

Federal Aviation Administration

14 CFR Part 71

[Docket No. FAA-2012-1294; Airspace Docket No. 11-ANM-28]

RIN 2120-AA66

Establishment of Area Navigation (RNAV) Routes; OR

AGENCY: Federal Aviation Administration (FAA), DOT.

ACTION: Final rule.

SUMMARY: This action establishes two new low-altitude RNAV routes, designated T-302 and T-304, in the state of Oregon. The routes replace segments of an existing VHF Omnidirectional Range (VOR) Federal airway that will be removed due to the planned decommissioning of the Portland, OR, VOR/DME in 2013. This action advances the implementation of RNAV in the National Airspace System (NAS) and provides continued en route navigation guidance in the affected airspace.

DATES: Effective date 0901 UTC, June 27, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

The FAA published in the Federal Register a notice of proposed rulemaking (NPRM) to establish T-302 and T-304 in the state of Oregon (78 FR 4354, January 22, 2013). Interested parties were invited to participate in this rulemaking effort by submitting written comments on the proposal. Two comments were received, both expressing support for the proposal.

The Rule

This action amends Title 14, Code of Federal Regulations (14 CFR) part 71 by establishing RNAV routes T-302 and T-304 in Oregon. The new low-altitude routes replace segments of a VOR Federal airway that will be affected by the planned decommissioning of the Portland, OR, VOR/DME in 2013. T-302 extends between the existing CUKIS, OR, fix and the existing CUPRI, OR, fix. T-304 extends between the existing GLARA, OR, fix and the existing HERBS, OR, fix. Additional waypoints are added between the end-point fixes. This action enhances safety and efficiency, expands the use of RNAV within the NAS, and provides for continued en route navigation guidance in a portion of Seattle Air Route Traffic Control Center's airspace.

Area navigation routes are published in paragraph 6011 of FAA Order 7400.9W, dated August 8, 2012 and effective September 15, 2012, which is incorporated by reference in 14 CFR 71.1. The area navigation routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to preserve the safe and efficient flow of air traffic.

Environmental Review

The FAA has determined that this action is categorically excluded from further environmental documentation according to FAA Order 1050.1E, Environmental Impacts: Policies and Procedures, in accordance with paragraph 311a. The implementation of this action will not result in any extraordinary circumstances in accordance with FAA Order 1050.1E paragraph 304.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012, and effective September 15, 2012, is amended as follows:

Paragraph 6011 United States area navigation routes

* * * * *

T-302 CUKIS, OR to CUPRI, OR [New]
CUKIS, OR | Fix | (45°21′00″ N., long. 122°21′49″ W.)
JJACE, OR | WP | (45°09′52″ N., long. 122°03′03″ W.)
JJETT, OR | WP | (44°56′35″ N., long. 121°40′56″ W.)
JERMM, OR | WP | (44°46′05″ N., long. 121°27′06″ W.)
CUPRI, OR | Fix | (44°37′04″ N., long. 121°15′14″ W.)
T-304 GLARA, OR to HERBS, OR [New]
GLARA, OR | Fix | (45°16′40″ N., long. 122°36′11″ W.)
PUTZZ, OR | WP | (45°06′14″ N., long. 122°07′19″ W.)
JJETT, OR | WP | (44°56′35″ N., long. 121°40′56″ W.)
WISSL, OR | WP | (44°35′49″ N., long. 121°24′59″ W.)
HERBS, OR | Fix | (44°25′07″ N., long. 121°16′52″ W.)

Issued in Washington, DC, on April 4, 2013.
Gary A. Norek,
Manager, Airspace Policy and ATC Procedures Group.

[FR Doc. 2013-08591 Filed 4-12-13; 8:45 am]

BILLING CODE 4910-13-P